SECURITIES AND EXCHANGE COMMISSION

Submissions for OMB Review; Comment Request

Upon Written Request, Copies Available From: Securities and Exchange Commission, Office of Filings and Information Services, Washington, DC 20549.

Extension: Form 10-QSB, OMB Control No. 3235-0416, SEC File No. 270-369.

Notice is hereby given that pursuant to the Paperwork Reduction Act of 1995 (44 U.S.C. 3501 et seq.) the Securities and Exchange Commission (“Commission”) has submitted to the Office of Management and Budget this request for extension of the previously approved collection of information discussed below.

Form 10-QSB (17 CFR 249.308b) is a quarterly report form that is available to “small business issuers” as defined by regulations under the Securities Exchange Act of 1934 (“Exchange Act”) (15 U.S.C. 78a et seq.), and is used by such issuers to satisfy their quarterly reporting obligations pursuant to Section 13 and Section 15(d) of the Exchange Act (15 U.S.C. 78m and 78o(d)). Form 10-QSB provides a comprehensive overview of the small business issuer's business, although its requirements call for slightly less detailed information than required by Form 10-Q (17 CFR 249.308a). The information provided is mandatory and all information is made available to the public upon request. Form 10-QSB takes approximately 182 hours per response to prepare and is filed by 4,066 respondents three times a year for a total of 12,198 responses. We estimate that 75% of the 182 hours per response (136.5 hours) is prepared by the company for a total annual reporting burden of 1,665,027 hours (136.5 hours per response × 12,198 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, c/o Shirley Martinson, 6432 General Green Way, Alexandria, VA 22312; or send an e-mail to: PRA_Mailbox@sec.gov. Comments must be submitted to OMB within 30 days of this notice.

Dated: March 7, 2007.
Florence E. Harmon,
Deputy Secretary.

[FR Doc. E7-4896 Filed 3-16-07; 8:45 am]

BILLING CODE 8010-01-P